DEPARTMENT OF COMMERCE

National Oceanic and Atmospheric

Administration Proposed Information Collection; Comment Request; West Coast Region Vessel Identification Requirements

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: Written comments must be submitted on or before September 11, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Shannon Penna, National Marine Fisheries Service (NMFS), West Coast Region (WCR) Long Beach Office, 501 West Ocean Blvd., Suite 4200, Long Beach, CA 90802, (562) 980-4238 or shannon.penna@noaa.gov.

SUPPLEMENTARY INFORMATION:

I. Abstract

This request is for extension of a current information collection. Regulations at 50 CFR 660.704 require that all commercial fishing vessels with permits issued under authority of the National Marine Fishery Service's (NMFS) Fishery Management Plan for United States (U.S.) West Coast Highly Migratory Species Fisheries display the vessel's official number (U.S. Coast Guard documentation number or state registration number). The numbers must be of a specific size and format and located at specified locations. The official number must be affixed to each vessel subject to this section in block Arabic numerals at least 10 inches (25.40 centimeters) in height for vessels more than 25 feet (7.62 meters) but equal to or less than 65 feet (19.81 meters) in length; and 18 inches (45.72 centimeters) in height for vessels longer than 65 feet (19.81 meters) in length. Markings must be legible and of a color that contrasts with the background. The display of the identifying number aids in fishery law enforcement. This requirement does not apply to recreational charter vessels.

II. Method of Collection

The vessels' official numbers are displayed on the vessels.

III. Data

OMB Control Number: 0648-0361.

Form Number(s): None.

Type of Review: Regular submission (extension of a current information collection).

Affected Public: Business or other for-profit organizations.

Estimated Number of Respondents: 1700.

Estimated Time per Response: All but purse seine vessels, 45 minutes; purse seine vessels, 1 hour, 15 minutes.

Estimated Total Annual Burden Hours: 1,325 hours.

Estimated Total Annual Cost to Public: $13,250.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 7, 2017.
Sarah Brabson,
NOAA PRA Clearance Officer.

[FR Doc. 2017-14576 Filed 7-11-17; 8:45 am]

BILLING CODE 3510-22-P